DEPARTMENT OF TRANSPORTATION

Federal Aviation Administration

Notice of Intent To Rule on Request To Release Airport Property at Eufaula Municipal Aiport, Eufaula, Oklahoma, Correction

AGENCY: Federal Aviation Administration (FAA), DOT.

ACTION: Notice; correction.

SUMMARY: The FAA published a document in the Federal Register of December 5, 2014, concerning request for comments on the release of land at Eufaula Municipal Airport under the provisions of Section 125 of the Wendell H. Ford Aviation Investment Reform Act for the 21st Century (AIR 21). The document contained the incorrect state.

FOR FURTHER INFORMATION CONTACT: Kathy Franklin, 817-222-5634

Correction

In the Federal Register of December 5, 2014, in FR Doc. 2014-28562, on page 1, in the Notice title, correct the Notice title to read: Notice of Intent to Rule on Request to Release Airport Property at Eufaula Municipal Airport, EUFAULA, OKLAHOMA.

Dated: January 8, 2015,
Edward N. Agnew,
Acting Manager, Airports Division, Southwest Region.

[FR Doc. 2015-00996 Filed 1-21-15; 8:45 am]

BILLING CODE 4910-13-P